DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: National Ocean Recreational Expenditure (NORE) Survey.

OMB Control Number: 0648-xxxx.

Form Number(s): NA.

Type of Request: Regular submission (request for a new information collection).

Number of Respondents: 12,701.

Average Hours per Response: Non-participants in ocean activities, 2 minutes; Participants in ocean activities, 10 minutes.

Burden Hours: 2,449.

Needs and Uses: This is a request for a new information collection.

Consistent with Executive Order 13547: Stewardship of our Oceans, our Coasts and our Great Lakes, and NOAA's Next Generation Strategic Plan, the National Marine Fisheries Service (NMFS) plans to collect data to estimate expenditures on recreational activities in the U.S. that interact with marine resources falling within the scope of NMFS' public trust responsibilities. These activities may include but are not limited to: Wildlife watching (for example, whales or dolphins) from a boat or from shore; kayaking or canoeing in fish habitat areas such as estuaries and sloughs; and snorkeling or scuba diving on fish aggregating devices such as ship wrecks. The survey will help enhance NMFS' understanding of the economic implications of its public trust responsibilities as they relate to non-fishing recreational activities. The data collected may also provide information useful for the purposes of marine spatial planning. Measures of economic performance that may be supported by this data collection include the following: (1) Contribution to net national benefit; and (2) contribution to regional economic impacts (income and employment).

Affected Public: Individuals or households.

Frequency: One time or every two months for up to one year.

Respondent's Obligation: Voluntary.

OMB Desk Officer: OIRA_Submission@omb.eop.gov.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to OIRA_Submission@omb.eop.gov.

Dated: May 2, 2011.
Gwellnar Banks,
Management Analyst, Office of the Chief Information Officer.

[FR Doc. 2011-10954 Filed 5-4-11; 8:45 am]

BILLING CODE 3510-22-P